DEPARTMENT OF VETERANS AFFAIRS

Advisory Committee on Homeless Veterans, Notice of Meeting

The Department of Veterans Affairs (VA) gives notice under the Federal Advisory Committee Act, 38 U.S.C. App. 2 that a meeting of the Advisory Committee on Homeless Veterans will be held October 19, 2015 through October 21, 2015. On October 19 and October 20, the Committee will meet at office space located at 1200 Binz Street, Houston, TX, from 8:00 a.m. to 4:00 p.m. On October 21, the Committee will meet at 1200 Binz Street, Houston, TX from 8:00 a.m. to 12:00 p.m. The meeting will be open to the public.

The purpose of the Committee is to provide the Secretary of Veterans Affairs with an on-going assessment of the effectiveness of the policies, organizational structures, and services of VA in assisting homeless Veterans. The Committee shall assemble and review information related to the needs of homeless Veterans and provide advice on the most appropriate means of providing assistance to that subset of the Veteran population. The Committee will make recommendations to the Secretary regarding such activities.

The agenda will include briefings from local homeless service providers, officials at VA and other agencies regarding services for homeless Veterans. The Committee will also review the framework to complete the annual report that was developed after the last meeting of the Advisory Committee on Homeless Veterans and will identify a timeframe to complete this upcoming annual report that provides recommendations to the Secretary of Veterans Affairs.

No time will be allocated at this meeting for receiving oral presentations from the public. Interested parties should provide written comments on issues affecting homeless Veterans for review by the Committee to Ms. Lisa Pape, Designated Federal Officer, VHA Homeless Programs Office (10NC1), Department of Veterans Affairs, 90K NE., Washington, DC, or email to Lisa.Pape2@va.gov.

Members of the public who wish to attend should contact Charles Selby or Timothy Underwood of the VHA Homeless Program Office by September 18, 2015, at Charles.Selby@va.gov or Timothy.Underwood@va.gov, while providing their name, professional affiliation, address, and phone number. A valid government issued ID is required for admission to the meeting. Attendees who require reasonable accommodation should state so in their requests.

Dated: August 25, 2015.
Rebecca Schiller,
Federal Advisory Committee Management Officer.

[FR Doc. 2015-21368 Filed 8-27-15; 8:45 am]

BILLING CODE 8320-01-P